DEPARTMENT OF COMMERCE

National Oceanic and Atmospheric Administration

[I.D. 070104I]

Proposed Information Collection; Comment Request; Coastal Zone Management Program Administration

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 7, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Masi Okasaki, 301-713-3155, extension 185 or e-mail at masi.okasaki@noaa.gov.

SUPPLEMENTARY INFORMATION:

I. Abstract

The coastal zone management grants provide funds to states and territories to implement federally-approved coastal management plans; revise assessment document and multi-year strategy; submit Section 306A documentation on the approved coastal zone management plans; submit requests to approve amendments or program changes; and complete the state's coastal nonpoint source pollution program.

II. Method of Collection

Information for Performance Reports is collected according to the Performance Report Guideline; Assessment and Strategy documents is collected according to the Assessment and Strategy Guidelines; Section 306A documentation is collected according to the Section 306A Guidance; Amendment or program changes is collected according to the Final Program Change Guidance; and Coastal Nonpoint Source Pollution Program document is collected according to guidance specifying management measures for sources of nonpoint pollution in coastal waters and coastal nonpoint pollution control program, program development and approval guidance.

III. Data

OMB Number: 0648-0119.

Form Number: None.

Type of Review: Regular submission.

Affected Public: State, Local and Tribal Government.

Estimated Number of Respondents: 34.

Estimated Time Per Response: Performance Reports 27 hours; Assessment and Strategy 240 hours; 306A documentation - 5 hours; Amendments and Routine Program Changes 8 hours; and 6,217 Nonpoint Pollution Control Program 150 hours.

Estimated Total Annual Burden Hours: 6,598 hours.

Estimated Total Annual Cost to Public: $450.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 30, 2004.
Gwellnar Banks,
Management Analyst, Office of the Chief Information Officer.

[FR Doc. 04-15402 Filed 7-6-04; 8:45 am]

BILLING CODE 3510-08-S